ENVIRONMENTAL PROTECTION AGENCY

[FRL-6727-6]

Notice of Public Comment and Public Workshops; Western Regional Air Partnership

AGENCY: Environmental Protection Agency (EPA).

ACTION: Notice.

SUMMARY: This notice announces public workshops and a request for public comment sponsored by the Western Regional Air Partnership (WRAP). The workshops and the request for comments concern four proposed options regarding regional emissions milestones for stationary sources of sulfur dioxide (SO2), as well as proposed recommendations regarding a backstop emissions trading program. EPA is publishing this notice on behalf of the WRAP.

DATES: See Supplementary Information section of this notice.

ADDRESSES: See Supplementary Information section of this notice for the Workshop locations.

FOR FURTHER INFORMATION CONTACT: Al Zemsky, Senior External Advisor, Air Division, (AIR-1), U.S. Environmental Protection Agency, Region IX, 75 Hawthorne Street, San Francisco, CA 94105, Telephone: (415) 744-1262.

SUPPLEMENTARY INFORMATION: The WRAP, comprising governors from Western states, tribal leaders and federal agency representatives, is seeking public comment on four proposed options regarding regional emissions milestones for stationary sources of sulfur dioxide (SO2), as well as proposed recommendations regarding a backstop emissions trading program. The comments are important for developing final recommendations for western air quality regulations to be submitted to the U.S. EPA.

The dates, times, and locations of the workshops and the availability of the documents to be reviewed for comment are described below.

Notice of Public Comment and Public Workshops

The Western Regional Air Partnership (WRAP), comprising governors from Western states, tribal leaders and federal agency representatives, is seeking public comment on four proposed options regarding regional emissions milestones for stationary sources of sulfur dioxide (SO2), as well as proposed recommendations regarding a backstop emissions trading program. Public comments on these options are to be considered by the WRAP in developing final recommendations for sulfur dioxide emission reduction milestones and related western air quality issues. Under section 309 of the regional haze program (see 64 FR 35713; July 1, 1999), these recommendations are to be submitted to the U.S. Environmental Protection Agency (EPA) in October 2000.

Availability of Proposed Options

Availability of Proposed Options Three documents are available for review on the WRAP Web site at www.wrapair.org. They are reports from the WRAP's Market Trading Forum, the Initiatives Oversight Committee, and a brief summary of the WRAP's proposal for comment. Copies may also be obtained by contacting: Patrick Cummins, Western Governors' Association; 600 17th Street, Suite 1705 S. Tower; Denver, Colorado 80202 (telephone: 303-623-9378; pcummins@westgov.org); or Bill Grantham, National Tribal Environmental Council; 2221 Rio Grande NW; Albuquerque, New Mexico 87104 (telephone: 505-242-2175; bgrantham@ntec.org).

Public Workshops Will Be Held on the Following Dates:

June 27: Santa Fe, New Mexico “ 7 p.m.

Runnels Building Auditorium; 1190 St. Francis Drive

June 27: Las Vegas, Nevada “ 10 a.m.-5 p.m. “ Workshop for Tribes

Holiday Inn, Emerald Springs; 325 E. Flamingo Road

June 27: Flagstaff, Arizona “ 4 p.m.

Northern Arizona University, DuBois Center, 306 East Pine Knoll Drive.

June 28: Salt Lake City, Utah “ 7 p.m.

Department of Environmental Quality, Room 101; 162 N. 1950 W.

June 29: Casper, Wyoming “ 7 p.m.

Basco Building; 777 W. First Street

TBA: Colorado

Initial Public Comment Period

Initial public comment will be held from May 15 until July 7, 2000. Comments may be submitted in writing to Patrick Cummins, Western Governors' Association; 600 17th Street, Suite 1705 S. Tower; Denver, Colorado or Bill Grantham, National Tribal Environmental Council; 2221 Rio Grande NW; Albuquerque, New Mexico 87104. Comments may also be filed electronically on the WRAP Web site at www.wrapair.org or by submitting comments on floppy disk. In addition, comments may be presented at any one of the public workshops. Written comments should include a typewritten, or legible hand written summary of key issues no more than 250 words in length. The purpose of the initial public comment period is to provide input to the WRAP as it narrows its options and continues development of final recommendations regarding a regional backstop market trading program.

Final Public Comment Period and Public Meetings

Public comment on final recommendations will be sought August 14 to September 8, 2000. Regional public meetings will be held in communities throughout the West. Currently, meetings are being considered for Arizona, Colorado, Idaho, New Mexico, Oregon, Utah, Washington, and Wyoming. Others may be added. Details will be made available shortly on the WRAP Web site. Final recommendations will be submitted to EPA by October 2, 2000.

Background

The WRAP was created as the successor organization to the Grand Canyon Visibility Transport Commission (GCVTC), which made over 70 recommendations in June 1996 for improving visibility in 16 national parks and wilderness areas on the Colorado Plateau. The Partnership promotes, supports and monitors implementation of those recommendations throughout the West. Under EPA's Regional Haze Rule (64 FR 35713, July 1, 1999), nine of the Western states have the option to comply with the GCVTC's regional visibility protection program. The program requires the establishment of a regional emission milestone for 2018, in addition to interim milestones. The recommendations and options regarding the market trading program were developed over the last two years by WRAP committees comprising a diverse group of stakeholders including industry, environmental groups and academia.

Authority: 42 U.S.C. 7401 et seq.

Dated: June 14, 2000.
Laura Yoshii,
Acting Regional Administrator,, Region IX.

[FR Doc. 00-16630 Filed 6-29-00; 8:45 am]

BILLING CODE 6560-50-P